DEPARTMENT OF TRANSPORTATION

Federal Aviation Administration

14 CFR Part 39

[Docket No. FAA-2006-25739; Directorate Identifier 2006-CE-46-AD]

RIN 2120-AA64

Airworthiness Directives; Raytheon Aircraft Company Models 58 and G58 Airplanes

AGENCY: Federal Aviation Administration (FAA), Department of Transportation (DOT).

ACTION: Notice of proposed rulemaking (NPRM).

SUMMARY: We propose to adopt a new airworthiness directive (AD) for certain Raytheon Aircraft Company (RAC) Models 58 and G58 airplanes with optional propeller unfeathering accumulators installed. This proposed AD would require you to inspect the left propeller accumulator oil tube assembly for any chafing; replace the propeller accumulator oil tube assembly if any chafing is found; and reposition and secure with clamps both the left engine manifold pressure hose and its metal identification tags to avoid contact with other tubes, hoses, electrical wires, parts, components, and structure. This proposed AD results from several reports on the affected airplanes of chafing damage on the left propeller accumulator oil tube assembly. This includes an in-flight oil leak from the left engine on an RAC Model G58 airplane. We are proposing this AD to detect, correct, and prevent any chafing damage of the left propeller accumulator oil tube assembly, which could result in loss of engine oil. Loss of engine oil may lead to fire or smoke in the engine compartment, inability to unfeather the propeller, engine damage, or loss of engine power.

DATES: We must receive comments on this proposed AD by December 18, 2006.

ADDRESSES: Use one of the following addresses to comment on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

For service information identified in this proposed AD, contact Raytheon Aircraft Company, 9709 E. Central, Wichita, Kansas 67201-0085; telephone: (800) 429-5372 or (316) 676-3140.

FOR FURTHER INFORMATION CONTACT: Jeff Pretz, Aerospace Engineer, Wichita Aircraft Certification Office, FAA, 1801 Airport Road, Room 100, Wichita, Kansas 67209; telephone: (316) 946-4153; facsimile: (316) 946-4407.

SUPPLEMENTARY INFORMATION:

Comments Invited

We invite you to send any written relevant data, views, or arguments regarding this proposed AD. Send your comments to an address listed under the ADDRESSES section. Include the docket number, “FAA-2006-25739; Directorate Identifier 2006-CE-46-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

We received several reports of chafing damage to the propeller accumulator oil tube assembly on RAC Models 58 and G58 airplanes. The damage occurs when the left engine manifold pressure hose and its metal identification tags rubs against the tube assembly. Included in these reports was an in-flight oil leak on an RAC Model G58 airplane.

The RAC issued Safety Communiqué No. 271, dated May 2006, that recommended an inspection for possible chafing between the left engine manifold pressure hose and its metal identification tags and the left propeller accumulator oil tube assembly.

This condition, if not corrected, could result in loss of engine oil. Loss of engine oil may lead to fire or smoke in the engine compartment, inability to unfeather the propeller, engine damage, or loss of engine power.

Relevant Service Information

We have reviewed RAC Mandatory Service Bulletin No. SB 61-3806, issued: August 2006.

The service information describes procedures for:

• Inspecting the left engine manifold pressure hose and its metal identification tags for proper clearance to avoid any chafing with the propeller accumulator oil tube assembly;

• Inspecting the left propeller accumulator oil tube assembly for chafing damage and replacing if any chafing damage is found; and

• Relocating and securing with clamps the manifold pressure hose and its metal identification tags to ensure clearance between it and all tubes, hoses, electrical wires, parts, components, and structure.

FAA's Determination and Requirements of the Proposed AD

We are proposing this AD because we evaluated all information and determined the unsafe condition described previously is likely to exist or develop on other products of the same type design. This proposed AD would require you to inspect the left propeller accumulator oil tube assembly for any chafing; replace the propeller accumulator oil tube assembly if any chafing is found; and reposition and secure with clamps the left manifold pressure hose and its metal identification tags to ensure clearance between it and all tubes, hoses, electrical wires, parts, components, and structure.

Costs of Compliance

We estimate that this proposed AD would affect 49 airplanes in the U.S. registry.

We estimate the following costs to do the proposed inspection:

Labor cost | Parts cost | Total cost per airplane | Total cost on U.S. operators
1 work-hour × $80 per hour = $80 | N/A | $119 | $5,831

We estimate the following costs to do any necessary replacements that would be required based on the results of the proposed inspection. We have no way of determining the number of airplanes that may need this replacement:

Labor cost | Parts cost | Total cost per airplane
1 work-hour × $80 per hour = $80 | $39 | $119

RAC will provide warranty credit as specified in RAC Mandatory Service Bulletin No. SB 61-3806, issued: August 2006.

Authority for this Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Raytheon Aircraft Company: Docket No. FAA-2006-25739; Directorate Identifier 2006-CE-46-AD.

Comments Due Date

(a) We must receive comments on this airworthiness directive (AD) action by December 18, 2006.

Affected ADs

(b) None.

Applicability

(c) This AD applies to Models 58 and G58 airplanes, serial numbers TH-2097 through TH-2150, with optional propeller unfeathering accumulators installed, that are certificated in any category.

Unsafe Condition

(d) This AD results from several reports on the affected airplanes of chafing damage on the left propeller accumulator oil tube assembly. This includes an in-flight oil leak from the left engine on an RAC Model G58 airplane.We are issuing this AD to detect, correct, and prevent any chafing damage of the left propeller accumulator oil tube assembly, which could result in loss of engine oil. Loss of engine oil may lead to fire or smoke in the engine compartment, inability to unfeather the propeller, engine damage, or loss of engine power.

Compliance

(e) To address this problem, you must do the following, unless already done:

Actions | Compliance | Procedures
(1) Inspect the left propeller accumulator oil tube assembly for chafing | For airplanes that have not had a 100-hour TIS inspection or the inspection following Raytheon Safety Communiqué No. 271, dated May 2006: Within the next 25 hours TIS after the effective date of this AD. For airplanes that have had a 100-hour TIS inspection or the inspection following Raytheon Safety Communiqué No. 271, dated May 2006: Within the next 50 hours TIS after the effective date of this AD | Follow Raytheon Aircraft Company Mandatory Service Bulletin No. SB 61-3806, issued: August 2006.
(2) If any chafing is found in the inspection required by paragraph (e)(1) of this AD, replace the propeller accumulator oil tube assembly | Before further flight after the inspection required by paragraph (e)(1) of this AD | Follow Raytheon Aircraft Company Mandatory Service Bulletin No. SB 61-3806, issued: August 2006.
(3) Reposition and secure with clamps the left manifold pressure hose and its metal identification tags to ensure clearance between it and all tubes, hoses, electrical wires, parts, components, and structure | Before further flight after the inspection or replacement required in paragraphs (e)(1) and (e)(2) of this AD | Follow Raytheon Aircraft Company Mandatory Service Bulletin No. SB 61-3806, issued: August 2006.

Alternative Methods of Compliance (AMOCs)

(f) The Manager, Wichita Aircraft Certification Office (ACO), FAA, ATTN: Jeff Pretz, Aerospace Engineer, Wichita ACO, FAA, 1801 Airport Road, Room 100, Wichita, Kansas 67209; telephone: (316) 946-4153; facsimile: (316) 946-4407, has the authority to approve AMOCs for this AD, if requested using the procedures found in 14 CFR 39.19.

Related Information

(g) To get copies of the service information referenced in this AD, contact Raytheon Aircraft Company, 9709 E. Central, Wichita, Kansas 67201-0085; telephone: (800) 429-5372 or (316) 676-3140. To view the AD docket, go to the Docket Management Facility; U.S. Department of Transportation, 400 Seventh Street, SW., Nassif Building, Room PL-401, Washington, DC, or on the Internet at http://dms.dot.gov. The docket number is Docket No. FAA-2006-25739; Directorate Identifier 2006-CE-46-AD.

Issued in Kansas City, Missouri, on October 10, 2006.
Kim Smith,
Manager, Small Airplane Directorate, Aircraft Certification Service.

[FR Doc. E6-17188 Filed 10-16-06; 8:45 am]

BILLING CODE 4910-13-P